DEPARTMENT OF TRANSPORTATION

Federal Aviation Administration

Notice of Passenger Facility Charge (PFC) Approvals and Disapprovals

AGENCY: Federal Aviation Administration (FAA), DOT.

ACTION: Monthly Notice of PFC Approvals and Disapprovals. In December 2010, there were eight applications approved. This notice also includes information on three other applications, one approved in May 2010, one approved in September 2010, and one approved in November 2010, inadvertently left off the May 2010, September 2010, and November 2010 notices, respectively. Additionally, 12 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: City of Waterloo, Iowa.

Application Number: 10-09-C-00-ALO.

Application Type: Impose and use a PFC.

PFC Level: $4.50.

Total PFC Revenue Approved in this Decision: $35,100.

Earliest Charge Effective Date: November 1, 2011.

Estimated Charge Expiration Date: March 1, 2012.

Class of Air Carriers Not Required to Collect PFC's: None.

Brief Description of Projects Approved for Collection and Use:

Acquisition of deicing truck.

Acquisition of snow removal equipment.

Decision Date: May 12, 2010.

For Further Information Contact: Sheila Bridges, Central Region Airports Division, (816) 329-2638.

Public Agency: Huntsville-Madison County Airport Authority, Huntsville, Alabama.

Application Number: 10-17-C-00-HSV.

Application Type: Impose and use a PFC.

PFC Level: $4.50.

Total PFC Revenue Approved in this Decision: $25,248,512.

Earliest Charge Effective Date: May 1, 2012.

Estimated Charge Expiration Date: May 1, 2022.

Classes of Air Carriers Not Required to Collect PFC's:

(1) Air taxi commercial operators; (2) certified air carriers; and (3) certified route air carriers having fewer than 500 annual passenger enplanements.

Determination: Approved. Based on information contained in the public agency's application, the FAA has determined that each approved class accounts for less than 1 percent of the total annual enplanements at Huntsville International Airport.

Brief Description of Projects Approved for Collection and Use:

Terminal rehabilitation/baggage claim expansion.

Western land acquisition.

Air carrier ramp security and safety enhancements (rehabilitate apron).

Decision Date: September 23, 2010.

For Further Information Contact: Kevin Morgan, Jackson Airports District Office, (601) 664-9891.

Public Agency: San Diego County Regional Airport Authority, San Diego, California.

Application Number: 10-08-C-00-SAN.

Application Type: Impose and use a PFC.

PFC Level: $4.50.

Total PFC Revenue Approved in this Decision: $1,118,567,229.

Earliest Charge Effective Date: October 1, 2012.

Estimated Charge Expiration Date: October 1, 2036.

Class of Air Carriers Not Required to Collect PFC's: Non-scheduled on demand air carriers filing FAA Form 1800-31.

Determination: Approved. Based on information contained in the public agency's application, the FAA has determined that the approved class accounts for less than 1 percent of the total annual enplanements at San Diego International Airport.

Brief Description of Projects Approved for Collection and Use at a $4.50 PFC Level:

Terminal 2 west improvements.

Airside—apron improvements.

Brief Description of Project Approved for Collection and Use at a $3.00 PFC Level:

Roadway improvements—level separation.

Decision Date: November 24, 2010.

For Further Information Contact: Darlene Williams, Los Angeles Airports District Office, (310) 725-3625.

Public Agency: City of Redding, California.

Application Number: 11-04-C-00-RDD.

Application Type: Impose and use a PFC.

PFC Level: $4.50.

Total PFC Revenue Approved in this Decision: $553,103.

Earliest Charge Effective Date: September 1, 2011.

Estimated Charge Expiration Date: September 1, 2014.

Class of Air Carriers Not Required to Collect PFC's:

None.

Brief Description of Projects Approved for Collection and Use:

Storage building for Part 139 equipment.

Update airport layout plan.

Prepare airport electrical master plan.

Acquire aircraft rescue and firefighting equipment.

Rehabilitate airfield guidance signs.

Rehabilitate runway 16/34 (design only).

Rehabilitate parallel and connecting taxiways (design only).

Rehabilitate terminal building.

Conduct wildlife hazard assessment.

Terminal building expansion (design only).

PFC administrative costs.

Reconstruct west aircraft parking apron (Air Shasta).

Reconstruct T-Hangar taxilanes.

Air cargo apron expansion (design only).

Security fencing (design only).

Rehabilitate and expand terminal building.

Upgrade airfield electrical system (design only).

Brief Description of Disapproved Projects:

Environmental assessment (parallel runway 16L/34R).

Design runway 16L/34R and associated parallel taxiways.

Determination: The FAA has determined that proposed parallel runway 16L/34R and associated planning and design projects are not justified at this time. Therefore, this project does not meet the requirements of § 158.15(c).

Decision Date: December 3, 2010.

For Further Information Contact: Arlene Draper, San Francisco Airports District Office, (650) 876-2778.

Public Agency: City of Rapid City, South Dakota.

Application Number: 11-07-C-00-RAP.

Application Type: Impose and use a PFC.

PFC Level: $4.50.

Total PFC Revenue Approved in this Decision: $25,755,528.

Earliest Charge Effective Date: November 1, 2011.

Estimated Charge Expiration Date: June 1, 2034.

Class of Air Carriers Not Required to Collect PFC's:

Nonscheduled Part 135 air taxi or commercial operators.

Determination: Approved. Based on information contained in the public agency's application, the FAA has determined that the approved class accounts for less than 1 percent of the total annual enplanements at Rapid City Regional Airport.

Brief Description of Project Approved for Collection and Use: Terminal expansion/remodel.

Decision Date: December 6, 2010.

For Further Information Contact: David Anderson, Bismarck Airports District Office, (701) 323-7385.

Public Agency: Palm Beach Board of County Commissioners, West Palm Beach, Florida.

Application Number: 11-12-U-00-PBI.

Application Type: Use a PFC.

PFC Level: $4.50.

Total PFC Revenue Approved in This Decision: $3,719,817.

Charge Effective Date: July 1, 2008.

Estimated Charge Expiration Date: May 1, 2013.

Class of Air Carriers Not Required to Collect PFC's: No change from previous decision.

Brief Description of Project Approved for Use: Land acquisition.

Decision Date: December 7, 2010.

For Further Information Contact: Susan Moore, Orlando Airports District Office, (407) 812-6331.

Public Agency: City of Chicago, Department of Aviation, Chicago, Illinois.

Applications Number: 10-24-C-00-ORD.

Application Type: Impose and use A PFC.

PFC Level: $4.50.

Total PFC Revenue Approved in This Decision: $4,635,392.

Earliest Charge Effective Date: January 1, 2038.

Estimated Charge Expiration Date: February 1, 2038.

Class of Air Carriers Not Required to Collect PFC's: Air taxi.

Determination: Approved. Based on information contained in the public agency's application, the FAA has determined that the approved class accounts for less than 1 percent of the total annual enplanements at Chicago O'Hare International Airport.

Brief Description of Project Partially Approved for Collection and

Use: School sound insulation.

Determination: The project cost estimate included a “contingency” line item. This is not an allowable cost component for PFC purposes. The approved amount is $409,740 less than the amount requested to account for this ineligible cost item.

Decision Date: December 7, 2010.

For Further Information Contact: Amy Hanson, Chicago Airports District Office, (847) 294-7354.

Public Agency: Norfolk Airport Authority, Norfolk, Virginia.

Application Number: 10-03-C-00-ORF.

Application Type: Impose and use a PFC.

PFC Level: $4.50.

Total PFC Revenue Approved in This Decision: $9,640,166.

Earliest Charge Effective Date: September 1, 2015.

Estimated Charge Expiration Date: October 1, 2016.

Class of Air Carriers Not Required to Collect PFC's: Carriers filing FAA Form 1800-31.

Determination: Approved. Based on information contained in the public agency's application, the FAA has determined that the approved class accounts for less than 1 percent of the total annual enplanements at Norfolk International Airport.

Brief Description of Projects Approved for Collection and Use:

Blast barrier.

Land acquisition—runway protection zone.

Land acquisition—future development.

Security access control system.

Relocate electrical vault.

Relocate aircraft rescue and firefighting station.

Relocation of runway end identifier lights and precision approach path indicator light systems;

By-pass taxiway and hold apron.

Airport master plan updates.

Airfield signage.

Aircraft rescue and firefighting training facility.

Aircraft rescue and firefighting vehicles and equipment.

Snow removal equipment.

Pavement management plan.

Apron lighting.

Runway 5/23 rehabilitation.

Rotating beacon relocation.

Runway 5/23 lighting improvements.

Runway 5R/23L environmental impact statement.

Perimeter access road.

Concourses A and B renovation.

Taxiway C rehabilitation.

Airfield signage rehabilitation. Taxiway A rehabilitation and general aviation apron overlay.

Decision Date: December 9, 2010.

For Further Information Contact: Jeffrey Breeden, Washington Airports District Office, (703) 661-1363.

Public Agency: Northwest Regional Airport Commission, Traverse City, Michigan.

Application Number: 11-05-C-00-TVC.

Application Type: Impose and use a PFC.

PFC Level: $4.50.

Total PFC Revenue Approved in This Decision: $2,452,975.

Earliest Charge Effective Date: February 1, 2011.

Estimated Charge Expiration Date: February 1, 2014.

Class of Air Carriers Not Required to Collect PFC's: Air taxi/commercial operators filing FAA Form 1800-31.

Determination: Approved. Based on information contained in the public agency's application, the FAA has determined that the approved class accounts for less than 1 percent of the total annual enplanements at Cherry Capital Airport.

Brief Description of Projects Approved for Collection and Use:

Feasibility study for runway 18/36 extension (400 feet)—airport layout plan update.

Snow removal equipment fuel farm design and construction.

Sand storage building construction.

Precision approach path indicator for runway 28—design and construction.

PFC preparation cost reimbursement.

PFC program audit cost reimbursement.

Snow removal equipment plow truck/snow sweeper 3.

Snow removal equipment plow truck/snow sweeper 4.

Perimeter road construction (north 1-Hangars to west 1-Hangars).

Preliminary engineering for runway 10/28 extension.

Preliminary plans to relocate medium intensity runway lighting system and runway approach indicator lights and instrument landing system glide slope for runway 28 extension.

Engineering design services to relocate the medium intensity approach lighting system and runway approach indicator lights and instrument landing system glide slope for runway 28 extension.

FAA reimbursable agreement to relocate navigational aids for runway 28.

Environmental assessment for runway 10/28 extension.

Demolition of the old aircraft rescue and firefighting/snow removal equipment building.

Snow removal equipment bi-directional tractor/blower/plow/loader procurement.

Snow removal equipment snow blower procurement.

Part 405 approach surveys.

Decision Date: December 9, 2010.

For Further Information Contact: Irene Porter, Detroit Airports District Office, (734) 229-2915.

Public Agency: Monterey Peninsula Airport District, Monterey, California.

Application Number: 11-16-U-00-MRY.

Application Type: Use a PFC.

PFC Level: $4.50.

Total PFC Revenue Approved for Use in This Decision: $665,000.

Charge Effective Date: August 1, 2009.

Estimated Charge Expiration Date: December 1, 2011.

Class of Air Carriers Not Required to Collect PFC's: No change from previous decision.

Brief Description of Projects Approved for Use:

Runway 10R/28L safety area design, phase I.

Runway 10L/28R safety area design, phase II.

Runway 10L/28R safety area construction, phase I.

Decision Date: December 14, 2010.

For Further Information Contact: Gretchen Kelly, San Francisco Airports District Office, (650) 876-2778.

Public Agency: City of Hailey and County of Blame, Hailey, Idaho.

Application Number: 11-07-C-00-SUN.

Application Type: Impose and use a PFC.

PFC Level: $4.50.

Total PFC Revenue Approved in This Decision: $505,918.

Earliest Charge Effective Date: March 1, 2011.

Estimated Charge Expiration Date: March 1, 2014.

Class of Air Carriers Not Required to Collect PFC's: Air taxi/commercial operators.

Determination: Approved. Based on information contained in the public agency's application, the FAA has determined that the approved class accounts for less than 1 percent of the total annual enplanements at Friedman Memorial Airport.

Brief Description of Projects Approved for Collection and Use:

Modify snow removal equipment building and relocate power line.

Acquire broom truck snow removal equipment.

Airfield pavement rehabilitation.

Acquire rotary plow snow removal equipment.

Development of draft environmental impact statement, phase II.

Communications switch FAN air traffic control tower.

PFC administrative costs for application 11-07.

Relocate power line for snow removal equipment building.

Decision Date: December 14, 2010.

For Further Information Contact: Warren Ferrell, Northwest Mountain Region Airports Division, (425) 227-2612.

Public Agency: Town of Harrietstown, Saranac Lake, New York.

Application Number: 10-02-C-00-SLK.

Application Type: Impose and use a PFC.

PFC Level: $4.50.

Total PFC Revenue Approved in this Decision: $470,825.

Earliest Charge Effective Date: February 1, 2011.

Estimated Charge Expiration Date: June 1, 2033.

Class of Air Carriers Not Required to Collect PFC's: None.

Brief Description of Projects Approved for Collection and Use:Airport terminal building improvements. PFC administrative costs.

Decision Date: December 15, 2010.

For Further Information Contact: Andrew Brooks, New York Airports District Office, (516) 227-3816.

Amendments to PFC Approvals
Amendment No. City, State | Amendment approved date | Original approved net PFC revenue | Amended approved net PFC revenue | Original estmated charge Exp. date | Amended estimated charge Exp. date
06-10-C-03-PHL; Philadelphia, PA | 11/24/10 | $238,950,000 | $249,450,000 | 04/01/18 | 06/01/18
06-04-C-02-UNV; State College, PA | 11/26/10 | 1,261,493 | 1,283,662 | 02/01/09 | 02/01/09
08-05-C-02-AVP; Avoca, PA | 11/26/10 | 6,770,104 | 5,790,104 | 08/01/17 | 08/01/17
04-10-C-04-MKE; Milwaukee, WI | 11/29/10 | 10,775,601 | 11,465,601 | 04/01/18 | 07/01/16
08-14-C-01-MKE; Milwaukee, WI | 11/29/10 | 16,760,334 | 16,860,334 | 08/01/20 | 08/01/20
08-07-C-01-GFK; Grand Forks, ND | 12/02/10 | 362,368 | 510,616 | 02/01/10 | 07/01/10
10-11-C-01-FLL; Fort Lauderdale, FL | 12/08/10 | 24,909,327 | 26,409,327 | 01/01/18 | 01/01/18
02-02-C-01-GNV; Gainesville, FL | 12/16/10 | 4,637,954 | 5,668,584 | 02/01/11 | 07/01/13
09-03-C-01-ELM; Horseheds, NY | 12/16/10 | 2,080,342 | 2,580,175 | 10/01/14 | 10/01/15
02-04-C-03-TOL; Toledo, OH | 12/18/10 | 3,820,436 | 3,821,285 | 07/01/07 | 12/01/07
06-07-C-01-BTM; Butte, MT | 12/22/10 | 110,883 | 112,047 | 08/01/07 | 08/01/07
98-08-C-02-MHT; Manchester, NH | 12/23/10 | 3,033,074 | 3,033,074 | 02/01/16 | 02/01/16

Issued in Washington, DC on January 5, 2011.
Joe Hebert,
Manager, Financial Analysis and Passenger Facility Charge Branch.

[FR Doc. 2011-347 Filed 1-14-11; 8:45 am]

BILLING CODE 4910-13-M